FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than July 3, 2024.

A. Federal Reserve Bank of Dallas (Karen Smith, Director, Mergers & Acquisitions) 2200 North Pearl Street, Dallas, Texas 75201-2272. Comments can also be sent electronically to Comments.applications@dal.frb.org:

1. Rodney Bass, as trustee of The Lonnie Ken Pilgrim 2003 GST Trust, The Lonnie Ken Pilgrim 1999 Issue Trust, The LKP 2012 GST Trust, The Greta Pilgrim Owens 2003 GST Trust, The Greta Pilgrim Owens 1999 Issue Trust, and The GPO 2012 Trust, Sulphur Springs, Texas; to join the Pilgrim/Henson/Simpson Family Group, a group acting in concert, to retain shares of Pilgrim Bancorporation, Mount Pleasant, Texas, and thereby indirectly retain shares of Pilgrim Bank, Pittsburg, Texas.

B. Federal Reserve Bank of Kansas City (Jeffrey Imgarten, Assistant Vice President) 1 Memorial Drive, Kansas City, Missouri 64198-0001. Comments can also be sent electronically to KCApplicationComments@kc.frb.org:

1. Daniel J. Smerchek; the Daniel J. Smerchek Pecuniary GST Trust, Daniel J. Smerchek, trustee; and Sonja C. Smerchek, all of Waterville, Kansas; and the Haley M. Johnson GST Trust dated September 26, 2018, Haley M. Johnson, trustee, Grand Prairie, Texas; to join the Smerchek Family Control Group and Daniel J. Smerchek to become the largest individual controlling shareholder, to acquire voting shares of First Commerce Financial Corporation, and thereby indirectly acquire voting shares of First Commerce Bank, both of Marysville, Kansas.

Board of Governors of the Federal Reserve System.
Michele Taylor Fennell,
Deputy Associate Secretary of the Board.

[FR Doc. 2024-13406 Filed 6-18-24; 8:45 am]

BILLING CODE P